FEDERAL TRADE COMMISSION

Agency Information Collection Activities; Request for OMB Review; Comment Request

AGENCY: Federal Trade Commission (FTC or Commission).

ACTION: Notice and request for comment.

SUMMARY: In compliance with the Paperwork Reduction Act (PRA) of 1995, 44 U.S.C. 3501-3521, the FTC is seeking public comments on its proposal to extend through February 28, 2014, the current PRA clearance for information collection requirements contained in its Informal Dispute Settlement Procedures Rule. That clearance expires on February 28, 2011. The FTC will submit the collection of information abstracted below to the Office of Management and Budget (OMB) for review.

DATES: Comments must be received on or before March 14, 2011.

ADDRESSES: Interested parties may submit written comments by following the instructions in the Request for Comments part of the SUPPLEMENTARY INFORMATION section below. Comments in electronic form should be submitted by using this Web link: https://ftcpublic.commentworks.com/ftc/idsrpra2. Comments in paper form should be mailed or delivered to the following address: Federal Trade Commission, Office of the Secretary, Room H-113 (Annex J), 600 Pennsylvania Avenue, NW., Washington, DC 20580.

FOR FURTHER INFORMATION CONTACT: Requests for copies of the collection of information and supporting documentation should be addressed to Svetlana S. Gans, Attorney, Division of Marketing Practices, Bureau of Consumer Protection, Federal Trade Commission, Room H-286, 600 Pennsylvania Ave., NW., Washington, DC 20580, (202) 326-3708.

SUPPLEMENTARY INFORMATION: Title: Informal Dispute Settlement Procedures Rule, 16 CFR part 703.

OMB Control Number: 3084-0113.

Type of Review: Extension of a currently approved collection.

Abstract: The Informal Dispute Settlement Procedures Rule (the Dispute Settlement Rule or the Rule) specifies the minimum standards which must be met by any informal dispute settlement mechanism (IDSM) that is incorporated into a written consumer product warranty and which the consumer must use before pursuing legal remedies under the Act in court. These minimum standards for IDSMs include requirements concerning the mechanism's structure (e.g., funding, staffing, and neutrality), the qualifications of staff or decision makers, the mechanism's procedures for resolving disputes (e.g., notification, investigation, time limits for decisions, and follow-up), recordkeeping, and annual audits. The Rule requires that IDSMs establish written operating procedures and provide copies of those procedures upon request. The Rule applies only to those firms that choose to be bound by it by requiring consumers to use an IDSM. A warrantor is free to set up an IDSM that does not comply with the Rule as long as the warranty does not contain a prior resort requirement.

On November 24, 2010, the Commission sought comment on the information collection requirements associated with the Dispute Settlement Rule. 75 FR 71704. No comments were received. Pursuant to the OMB regulations, 5 CFR part 1320, that implement the PRA, the FTC is providing this second opportunity for public comment while seeking OMB approval to renew the pre-existing clearance for the Rule.

Estimated Annual Burden: 13,000 hours rounded to nearest thousand (9,114 hours for recordkeeping + 3,038 hours for reporting + 1,114 for disclosures).

Likely Respondents, Estimated Number of Respondents, Estimated Average Burden per Respondent:

(a) Recordkeeping—IDSMs, 2, 30 minutes/case for 18,227 annual consumer cases;

(b) Reporting—IDSMs, 2, 10 minutes/case for 18,227 annual consumer cases; and

(c) Disclosures—Warrantors, 27, annual 30 hours; IDSMs, 2, 5 minutes/case for 3,645 consumer cases.

Frequency of Response: Periodic.

Total Annual Labor Cost: 265,000 rounded to nearest thousand.

Total Annual Capital or Other Non-Labor Cost: 322,000 rounded to the nearest thousand.

Request for Comments

Interested parties are invited to submit written comments electronically or in paper form. Comments should refer to “Warranty Rules: Paperwork Comment, FTC File No. P044403” to facilitate the organization of comments. Please note that your comment—including your name and your State—will be placed on the public record of this proceeding, including on the publicly accessible FTC Web site, at http://www.ftc.gov/os/publiccomments.shtm.

Because your comments will be made public, you are solely responsible for ensuring that it does not include any sensitive personal information, such as any individual's Social Security number, date of birth, driver's license number or other State identification number or foreign country equivalent, passport number, financial account number, or credit or debit card number. It is also your own responsibility to ensure that your comment does not include any sensitive health information, such as medical records or other individually identifiable health information. Your comment should also not include any “[t]rade secret or any commercial or financial information * * * which is privileged or confidential.” See Section 6(f) of the FTC Act, 15 U.S.C. 46(f), and FTC Rule 4.10(a)(2), 16 CFR 4.10(a)(2). No comment, whether it contains such material or not, will be given confidential treatment unless the comment has been filed with the FTC Secretary; the comment is accompanied by a written confidentiality request that complies fully with FTC Rule 4.9(c), 16 CFR 4.9(c); ⁶ and the General Counsel, in his or her sole discretion, has determined to grant the request in accordance with applicable law and the public interest.

⁶ In particular, the written request for confidential treatment that accompanies the comment must include the factual and legal basis for the request, and must identify the specific portions of the comment to be withheld from the public record. See FTC Rule 4.9(c), 16 CFR 4.9(c).

Please submit your comments in electronic form or send them by courier or overnight service. To ensure that the Commission considers an electronic comment, you must file it at https://ftcpublic.commentworks.com/ftc/idsrpra2, by following the instructions on the Web-based form. If this Notice appears at http://www.regulations.gov, you may also file an electronic comment through that Web site. The Commission will consider all comments that regulations.gov forwards to it.

A comment filed in paper form should include the “Warranty Rules: Paperwork Comment, FTC File No. P044403” reference both in the text and on the envelope, and should be mailed or delivered to the following address: Federal Trade Commission, Office of the Secretary, Room H-113 (Annex J), 600 Pennsylvania Avenue, NW., Washington, DC 20580. The FTC is requesting that any comment filed in paper form be sent by courier or overnight service, if possible, because U.S. postal mail in the Washington area and at the Commission is subject to delay due to heightened security precautions.

Comments should also be submitted via facsimile to OMB at (202) 395-5167 and addressed as follows: Office of Information and Regulatory Affairs, Office of Management and Budget, Attention: Desk Officer for Federal Trade Commission. In case it is needed, the OMB mail address is: Office of Information and Regulatory Affairs, Office of Management and Budget, New Executive Office Building, Docket Library, Room 10102, 725 17th Street, NW., Washington, DC 20503. The OMB requests that any comment filed in paper form be sent by courier or overnight service.

The Commission will consider responsive public comments received on or before March 14, 2011.

Willard K. Tom,
General Counsel.

[FR Doc. 2011-3169 Filed 2-10-11; 8:45 am]

BILLING CODE 6750-01-P